NATIONAL AERONAUTICS AND SPACE ADMINISTRATION

[Notice 05-124]

NASA Advisory Committee; Notice of Renewal

AGENCY: National Aeronautics and Space Administration (NASA).

ACTION: Notice of renewal of the charter for the Return to Flight Task Group.

SUMMARY: Pursuant to sections 14(b)(1) and 9(c) of the Federal Advisory Committee Act (Pub. L. 92-463), and after consultation with the Committee Management Secretariat, General Services Administration, the Administrator of the National Aeronautics and Space Administration has determined that a renewal of the Agency-established Return to Flight Task Group advisory committee is in the public interest in connection with the performance of duties imposed upon NASA by law. The structure and duties of this committee are unchanged.

FOR FURTHER INFORMATION CONTACT: Ms. P. Diane Rausch, Office of External Relations, National Aeronautics and Space Administration, Washington, DC 20546, (202) 358-4510.

SUPPLEMENTARY INFORMATION: Information regarding the Return to Flight Task Group is available on the World Wide Web at: http://www.nasa.gov/returntoflight/main/index.html.

Dated: July 22, 2005.
P. Diane Rausch,
Advisory Committee Management Officer, National Aeronautics and Space Administration.

[FR Doc. 05-15091 Filed 7-28-05; 8:45 am]

BILLING CODE 7510-13-P